SECURITIES AND EXCHANGE COMMISSION

Proposed Collection; Comment Request

Upon Written Request Copies Available From: Securities and Exchange Commission, Office of FOIA Services, 100 F Street NE, Washington, DC 20549-2736

Ombudsman Matter Management System

OMB Control No. 3235-0748, SEC File No. 270-797

Notice is hereby given that, pursuant to the Paperwork Reduction Act of 1995 (44 U.S.C. 3501 et seq.), the Securities and Exchange Commission (“Commission” or “SEC”) is soliciting comments on the collection of information summarized below. The Commission plans to submit this renewal request for the collection of information to the Office of Management and Budget for approval.

In 2016, at the time of the original request for the collection of information, members of the public who contacted the Ombudsman for assistance did so by traditional mail, electronic mail, telephone, and facsimile. To make it easier for retail investors and others to contact the Ombudsman electronically, the Commission developed the Ombudsman Matter Management System (“OMMS”), a new, electronic data collection system for the receipt, collection and analysis of inquiries, complaints, and recommendations from retail investors directed to the SEC Ombudsman and the Office of the Investor Advocate. The Commission invites comment on OMMS.

OMMS was launched for internal use by SEC staff in 2017. Through OMMS, members of the public may request assistance from the Ombudsman and staff using a web-based form (the “OMMS Form”) tailored to gather information about matters within the scope of the Ombudsman's function and streamline the inquiry and response process. The OMMS Form, which was made available to the public for use in September 2017, facilitates communication with the Ombudsman via an electronic series of basic questions with user-friendly and mobile-friendly response features such as radio buttons, drop-down menu responses, pop-up explanation bubbles, web page links, fillable narrative text fields, and document upload options. In addition, the OMMS Form incorporates functionality that, depending upon certain responses, pre-populates specific fields, and prompts the user to provide additional information. By eliciting specific information from the user, the OMMS Form facilitates communication between the user and the Ombudsman, reduces response and resolution times, and maximizes Ombudsman staff resources available for recording, processing, and responding to matters. The requested information collection is voluntary and does not change the contact methods currently available.

The OMMS Form is publicly available through the Commission's website, https://www.sec.gov.

The Commission estimates that the total reporting burden for using the OMMS Form will be 275 hours. The calculation of this estimate depends on how many members of the public use the form each year and the estimated time it takes to complete the form: 550 respondents × 30 minutes per submission = 275 burden hours. The estimates of average burden hours are made solely for the purposes of the Paperwork Reduction Act and are not derived from a comprehensive or even representative survey or study of the cost of Commission rules and forms.

The total estimated one-time cost to the federal government of creating OMMS and the OMMS Form was $400,000. During the three-year period covered by our prior Paperwork Reduction Act submission in 2016, the startup costs were fully expensed and are therefore not included in the calculation for this renewal.

An agency may not conduct or sponsor a collection of information unless it displays a currently valid control number. No person shall be subject to any penalty for failing to comply with a collection of information subject to the PRA that does not display a valid Office of Management and Budget control number.

Written comments are invited on all aspects of this proposed information collection renewal request, in particular: (a) Whether this collection of information is necessary for the proper performance of the functions of the agency, including whether the information will have practical utility; (b) the accuracy of the agency's estimate of the burden imposed by the collection of information; (c) ways to enhance the quality, utility, and clarity of the information collected; and (d) ways to minimize the burden of the collection of information on users, including through the use of automated collection techniques or other forms of information technology.

Consideration will be given to comments and suggestions submitted in writing within 60 days of this publication. Please direct your written comments to Charles Riddle, Acting Chief Information Officer, Securities and Exchange Commission, c/o Candace Kenner, 100 F Street NE, Washington, DC 20549; or send an email to: PRA_Mailbox@sec.gov.

Dated: June 10, 2019.
Eduardo A. Aleman,
Deputy Secretary.

[FR Doc. 2019-12515 Filed 6-12-19; 8:45 am]

BILLING CODE 8011-01-P